DEPARTMENT OF THE INTERIOR

Office of the Secretary

43 CFR Part 2

RIN 1093-AA15

Freedom of Information Act Regulations

AGENCY: Office of the Secretary, Interior.

ACTION: Final rule; correction.

SUMMARY: This document contains corrections to the final rule published on December 31, 2012 (77 FR 76898). The regulation revises the Department's Freedom of Information Act regulations.

DATES: Effective January 30, 2013

FOR FURTHER INFORMATION CONTACT: Cindy Cafaro, Office of Executive Secretariat and Regulatory Affairs, 202-208-5342.

SUPPLEMENTARY INFORMATION: We published a document in the Federal Register on December 31, 2012, revising the Department of the Interior Freedom of Information Act (FOIA) regulations. This document inadvertently omitted amendatory language needed to replace a phrase, to amend a sentence, and to renumber the sections in several redesignated subparts. This publication corrects that omission.

Correction of Publication

Accordingly, the publication on December 31, 2012, of the final rule that was the subject of FR Doc. 2012-31117, is corrected as follows:

1. On page 76902, in the third column, revise numbered instruction 3 to read as follows:

“3. Subpart F (consisting of § 2.41), subpart G (consisting of §§ 2.45 through 2.79), and subpart H (consisting of §§ 2.80 through 2.90) are redesignated as subpart J (consisting of § 2.200), subpart K (consisting of §§ 2.220 through 2.254), and subpart L (consisting of §§ 2.280 through 2.290).”

2. On page 76903, in the third column, in § 2.5(d), remove the words “does not hear from you” and add in their place the words “does not receive a written response.”

3. On page 76911, in the first column, in paragraph (b)(1), remove the words “hears from you” and add in their place the words “receives a written response.”

4. On page 76905, in the first column, add the following sentence at the end of paragraph (h):

If you believe this response was in error, you may file an appeal in accordance with the procedures in § 2.59.

David J. Hayes,
Deputy Secretary of the Interior.

[FR Doc. 2013-02064 Filed 1-29-13; 8:45 am]

BILLING CODE 4310-10-P